DEPARTMENT OF COMMERCE

National Oceanic and Atmospheric Administration

[I.D. 031400F]

Endangered Species; Permits

AGENCY: National Marine Fisheries Service (NMFS), National Oceanic and Atmospheric Administration, Commerce.

ACTION: Receipt of an application for a scientific research permit (1246); receipt of applications to modify permits (900, 1056, 1119, 1140, 1203); issuance of a scientific research permit (1203) and modifications to existing permits (1036, 1102, 1114, 1115, 1212).

SUMMARY: Notice is hereby given of the following actions regarding permits for takes of endangered and threatened species for the purposes of scientific research and/or enhancement: NMFS has received a permit application from Douglas County Public Utility District No. 1 at East Wenatchee, WA (DCPUD)(1246); NMFS has received applications for permit modifications from: Northwest Fisheries Science Center, NMFS at Seattle, WA (900, 1056, 1140), U.S. Fish and Wildlife Service at Leavenworth, WA (USFWS)(1119), and Washington Department of Fish and Wildlife at Olympia, WA (WDFW-O)(1203); NMFS has issued a scientific research permit to WDFW-O (1203); and NMFS has issued modifications to permits to: U.S. Geological Survey at Cook, WA (USGS)(1036), Washington Department of Fish and Wildlife at Vancouver, WA (WDFW-V)(1102), WDFW-O (1114), Chelan County Public Utility District No 1(CCPUD)(1115), and Northwest Fisheries Science Center, NMFS at Seattle, WA (NWFSC)(1212).

DATES: Comments or requests for a public hearing on any of the new applications or modification requests must be received at the appropriate address or fax number (see ADDRESSES) no later than 5:00 pm Pacific daylight time on April 21, 2000.

ADDRESSES: Written comments on any of the new applications or modification requests should be sent to Protected Resources Division, F/NWO3, 525 NE Oregon Street, Suite 500, Portland, OR 97232-2737 (503-230-5400). Comments may also be sent via fax to 503-230-5435. Comments will not be accepted if submitted via e-mail or the internet.

Documents may also be reviewed by appointment in the Office of Protected Resources, F/PR3, NMFS, 1315 East-West Highway, Silver Spring, MD 20910-3226 (301-713-1401).

FOR FURTHER INFORMATION CONTACT: For permits 900, 1056, and 1140: Leslie Schaeffer, Portland, OR (ph: 503-230-5433, fax: 503-230-5435, e-mail: Leslie.Schaeffer@noaa.gov).

For permits 1036, 1102, 1114, 1115, 1119, 1203, 1212, and 1246: Robert Koch, Portland, OR (ph: 503-230-5424, fax: 503-230-5435, e-mail: Robert.Koch@noaa.gov).

SUPPLEMENTARY INFORMATION:

Authority

Issuance of permits and permit modifications, as required by the Endangered Species Act of 1973 (16 U.S.C. 1531-1543) (ESA), is based on a finding that such permits/modifications: (1) Are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations governing listed fish and wildlife permits (50 CFR parts 222-226).

Those individuals requesting a hearing on an application listed in this notice should set out the specific reasons why a hearing on that application would be appropriate (see ADDRESSES). The holding of such hearing is at the discretion of the Assistant Administrator for Fisheries, NOAA. All statements and opinions contained in the permit action summaries are those of the applicant and do not necessarily reflect the views of NMFS.

Species Covered in This Notice

The following species and evolutionarily significant units (ESU's) are covered in this notice:

Chinook salmon (Oncorhynchus tshawytscha): threatened Snake River (SnR) fall, threatened SnR spring/summer, endangered upper Columbia River (UCR) spring, threatened lower Columbia River (LCR), threatened Puget Sound (PS), threatened Upper Willamette (UW).

Chum Salmon (O. keta): threatened Columbia River (CR).

Coho salmon (O. kisutch): threatened Southern Oregon/Northern California Coast (SONCC).

Sockeye salmon (O. nerka): endangered SnR

Steelhead (O. mykiss): endangered UCR, threatened SnR, threatened middle Columbia River (MCR), threatened UW.

To date, final protective regulations for threatened LCR, PS, and UW chinook salmon, CR chum salmon, and SnR, MCR, and UW steelhead under section 4(d) of the ESA have not been promulgated by NMFS. Protective regulations are currently proposed for LCR, PS, and UW chinook salmon and CR chum (65 FR 169, January 3, 2000) and SnR, MCR, and UW steelhead (64 FR 73479, December 30, 1999). This notice of receipt of applications is issued as a precaution in the event that NMFS issues final protective regulations that prohibit takes of these species. The initiation of a 30-day public comment period on the applications, including their proposed takes of LCR, PS, and UW chinook salmon, CR chum, and SnR, MCR, and UW steelhead does not presuppose the contents of the eventual protective regulations.

New Application Received

DCPUD (1246) requests a 5-year scientific research permit to authorize annual takes of juvenile naturally produced and artificially propagated UCR spring chinook salmon and steelhead associated with a study designed to determine if the spring chinook salmon released from the Methow River Fish Hatchery, a mitigation hatchery for losses of juvenile salmon at Wells Dam, interact adversely with natural salmonid production in the Methow River Basin. DCPUD proposes to conduct a monitoring program that will determine if hatchery produced returning adults stray excessively and interbreed with other genetically distinct stocks, if hatchery produced juveniles released from acclimation ponds impact naturally rearing salmon and steelhead, and if the natural production in the donor population is diminished when hatchery reared salmon return to spawn in the natural habitat. The scientific research will provide information on the success of the hatchery program and the potential deleterious impacts to the recovery of ESA-listed chinook salmon and steelhead in the Methow River. ESA-listed juvenile fish are proposed to be captured using beach seines or screw traps, sampled for biological information and/or marked with fin clips, and released. ESA-listed juvenile fish indirect mortalities associated with the research are also requested. DCPUD also requests to collect ESA-listed adult fish carcasses in the basin and sample them for coded wire tags and tissues.

Modification Requests Received

NWFSC requests a modification to permit 900, which authorizes annual takes of juvenile SnR sockeye salmon, juvenile naturally produced and artificially propagated SnR spring/summer chinook salmon, juvenile SnR fall chinook salmon, juvenile naturally produced and artificially propagated UCR steelhead, and juvenile naturally produced and artificially propagated UCR spring chinook salmon associated with a study designed to determine the relative survival of migrating juvenile salmonids at The Dalles Dam on the Columbia River in the Pacific Northwest. For the modification, NWFSC requests an annual take of juvenile MCR steelhead and an increase in the annual take of juvenile naturally produced UCR steelhead associated with the research. The additional take is requested because steelhead stock abundance estimates in the Snake River and the upper- and mid-Columbia River have recently been revised. ESA-listed juvenile fish are proposed to be collected from the juvenile bypass system at John Day Dam, held for a period of time (up to six hours), anesthetized, tagged with Passive Integrated Transponders (PIT) or allowed to recover from the anesthetic and released. PIT tagged fish will be allowed to recover from the anesthetic, transported and held for one day, and then released in front of The Dalles Dam spillway, sluiceway, turbines, or downstream from the dam. PIT-tag interrogations made at Bonneville Dam and Rice Island under separate authorizations will be used to estimate relative survival of the release groups. ESA-listed juvenile steelhead indirect mortalities associated with the research are also requested. The modification is requested to be valid for the duration of permit 900, which expires on December 31, 2000.

NWFSC requests a modification to permit 1056, which authorizes annual takes of adult and juvenile naturally produced and artificially propagated SnR spring/summer chinook salmon associated with two studies designed to monitor wild salmon smolt migration timing, genetic change, and population structure over time. For the modification, NWFSC requests an annual take of juvenile MCR steelhead and an expansion of work locations associated with a new study designed to investigate marine derived nutrients in freshwater streams. New methods for taking fish (dip-netting, minnow-trapping, and angling) are also requested. A lethal take of juvenile MCR steelhead is also requested. Juvenile chinook salmon and steelhead are proposed to be taken from various locations in the Snake and John Day River Basins and analyzed for the presence of marine derived nutrients. Salmon and steelhead abundance and average body size will be determined by snorkel surveys or electrofishing sampling. ESA-listed juvenile steelhead indirect mortalities associated with the research are also requested. The modification is requested to be valid for the duration of permit 1056, which expires on December 31, 2001.

USFWS requests a modification to permit 1119, which authorizes annual takes of adult and juvenile UCR spring chinook salmon and steelhead associated with four studies in the UCR Basin. The purpose of Study 1 is to gather data on emerging juvenile salmon and steelhead in the Entiat River Basin. The purpose of Study 2 is to conduct snorkel surveys in various watersheds as part of inventory and artificial structure monitoring projects. The data obtained from both studies will be used to determine the survival and contribution of salmonids released from USFWS mitigation hatchery programs in central WA and to provide technical assistance to the agencies, Tribes, and interest groups that are using and/or managing aquatic resources in the mid- to UCR Basin. Study 3 involves spawning ground surveys in the Entiat River Basin designed to estimate the numbers of adult salmonids utilizing the basin. Study 4 is designed to evaluate the feasibility of restoring endangered UCR steelhead above barriers in Icicle Creek, a tributary to the Wenatchee River. For the modification, USFWS requests an increase in the ESA-listed juvenile steelhead take associated with Study 1. USFWS determined that the current level of steelhead take for Study 1 in Permit 1119 is not enough to conduct a statistically valid assessment of the juvenile steelhead emigration from the Entiat River throughout the annual outmigration season. ESA-listed juvenile steelhead are proposed to be captured with a rotary-screw trap, sampled for biological information, and released. The modification is requested to be valid for the duration of permit 1119, which expires on December 31, 2002.

NWFSC requests a modification to permit 1140, which authorizes annual takes of juvenile SnR sockeye salmon, juvenile SnR fall chinook salmon, juvenile naturally produced and artificially propagated SnR spring/summer chinook salmon, juvenile SONCC coho salmon, juvenile naturally produced and artificially propagated UCR steelhead, and juvenile naturally produced and artificially propagated UCR spring chinook salmon associated with a research study designed to assess the relationship between environmental variables, selected anthropogenic stresses, and bacterial and parasitic pathogens on disease-induced mortality of juvenile salmon in selected coastal estuaries in Oregon and Washington. The results of the study will benefit ESA-listed species by providing a better understanding of how environmental factors influence disease. For the modification, NWFSC requests annual takes of juvenile PS chinook salmon, juvenile UW chinook salmon, juvenile LCR chinook salmon, juvenile CR chum salmon, juvenile UW steelhead, and juvenile MCR steelhead associated with the research. ESA-listed juvenile fish are proposed to be taken with seines, purse seines, and/or fyke nets in selected coastal estuaries in Oregon and Washington and analyzed for pathogen prevalence and intensity, chemical analyses, histopathology, and stomach contents. A lethal take of PS chinook salmon is requested and ESA-listed juvenile fish indirect mortalities associated with the research are also requested. The modification is requested to be valid for the duration of permit 1140, which expires on December 31, 2002.

WDFW requests a modification to permit 1203, which authorizes annual takes of adult and juvenile naturally produced and artificially propagated UCR spring chinook salmon and steelhead associated with five research studies in the tributaries and mainstem of the UCR. The purpose of Study 1 is to evaluate the annual production of emigrating juvenile salmonid populations. The purpose of Study 2 is to assess the annual escapement of adult salmonids in the UCR Basin. The purpose of Study 3 is to conduct spawning ground surveys to evaluate annual salmonid reproductive success in the UCR Basin. The purpose of Study 4 is to document the presence or absence of salmonids throughout the UCR Basin to determine salmonid distribution and habitat utilization. The purpose of Study 5 is to conduct stream habitat and salmonid presence/absence surveys throughout the UCR Basin to determine the potential impacts on, or benefits to, fish and fish habitat resulting from proposed hydraulic projects. For the modification, WDFW requests an increase in the annual takes of ESA-listed juvenile salmon and steelhead associated with a new anadromous fish production monitoring and assessment project. WDFW proposes to use a rotary screw trap in the lower Wenatchee River to monitor the natural freshwater production of salmonid species and collect life history information. The annual production data will become a key indicator of salmonid recovery in the Wenatchee River Basin. ESA-listed juvenile fish are proposed to be captured, sampled for biological information, and released or captured, marked with fin clips, and released. Increases in ESA-listed juvenile fish indirect mortalities associated with the research are also requested. The modification is requested to be valid for the duration of permit 1203, which expires on December 31, 2003.

Permits and Modifications Issued

Notice was published on February 11, 1999 (64 FR 6880), that USGS had applied for a modification to scientific research permit 1036. Modification 2 to permit 1036 was issued on March 10, 2000, and authorizes annual takes of adult and juvenile UCR spring chinook salmon in the Hanford Reach of the Columbia River to predict the effects of reservoir drawdown on juvenile salmonids and their predators in free-flowing river reaches and to compare the effects with a similar study in the Hells Canyon Reach of the Snake River. Modification 2 also authorizes USGS to change the location of fish sampling for a race and residualism study. ESA-listed juvenile fish indirect mortalities are also authorized. Modification 2 to permit 1036 is valid for the duration of the permit, which expires on December 31, 2001.

Notice was published on April 26, 1999 (64 FR 20266), that WDFW-V had applied for a modification to scientific research permit 1102. Permit 1102 authorizes WDFW-V annual takes of adult UCR steelhead; adult SnR spring/summer chinook salmon; and adult SnR fall chinook salmon associated with two scientific research studies. The purpose of Study 1 is to determine the number and timing of wild and hatchery steelhead adults that pass Bonneville Dam on the Columbia River. The purpose of Study 2 is to determine the genetic stock identification of anadromous adult fish harvested in Columbia River fisheries, including fisheries conducted by Native Americans. Data will be used to determine the fishery impacts to ESA-listed stocks and if possible, to shape fisheries to reduce impacts to ESA-listed or depressed stocks while focusing harvest on healthy stocks. Modification 1 to permit 1102 was issued on March 10, 2000, and designates the Columbia River Inter-Tribal Fish Commission (CRITFC) as an agent of WDFW-V under Permit 1102. WDFW-V and CRITFC work cooperatively at Bonneville Dam for much of the research sampling season for Study 1. The take of ESA-listed adult chinook salmon that WDFW-V requested in March 1999 for Study 1 will be included in CRITFC's scientific research Permit 1134, since CRITFC is targeting adult chinook salmon at Bonneville Dam and requested the identical take as WDFW in 1999. Modification 1 also authorizes WDFW-V to collect tissue samples and scales from adult UCR spring chinook salmon that are harvested incidental to treaty and non-treaty fisheries in the Columbia River Basin (Study 2). Modification 1 to permit 1102 is valid for the duration of the permit, which expires on January 31, 2003.

Notice was published on March 9, 1999 (64 FR 11444), that WDFW-O had applied for a modification to scientific research permit 1114. Modification 2 to permit 1114 was issued on March 10, 2000, and authorizes takes of juvenile UCR spring chinook salmon associated with research designed to collect information on adult and juvenile fish migration timing, survival, travel timing, and general fish health. Indirect mortalities of juvenile naturally produced and artificially propagated UCR spring chinook salmon associated with Study 1 are also authorized. Modification 2 to permit 1114 is valid for the duration of the permit, which expires on January 31, 2003.

Notice was published on January 15, 1998 (63 FR 2364), that CCPUD had applied for a scientific research permit. Permit 1115 was issued on April 10, 1998, and authorized the annual take of juvenile naturally produced and artificially propagated UCR steelhead associated with research to evaluate the juvenile fish bypass system installed at Rocky Reach Dam and monitor juvenile fish gas bubble trauma at Rocky Reach and Rock Island Dams on the Columbia River. NMFS issued an amendment to permit 1115 on March 10, 2000, which authorizes CCPUD annual direct takes of adult and juvenile naturally produced and artificially propagated UCR spring chinook salmon associated with the research. An associated indirect mortality of juvenile naturally produced and artificially propagated UCR spring chinook salmon is also authorized. The amendment to permit 1115 is valid for the duration of the permit, which expires on December 31, 2002.

Notice was published on March 9, 1999 (64 FR 11444), that WDFW-O had applied for a scientific research permit to authorize takes of adult and juvenile UCR spring chinook salmon. On June 3, 1999 (64 FR 29839), a notice was published that WDFW-O had requested authorization to add takes of adult and juvenile UCR steelhead to the original request. Permit 1203 was issued on March 10, 2000, and authorizes WDFW-O takes of these species associated with five research studies in the UCR tributaries and the mainstem river. In Study 1, WDFW-O will assess migrating juvenile salmonid populations. In Study 2, WDFW-O will trap returning adults at fish ladders, record biological information, and release them upstream. In Study 3, WDFW-O will survey spawning grounds to identify redds and collect biological data from carcasses. Tissue samples taken from the carcasses will be deposited at the WDFW Laboratory in Olympia, WA for analysis. In Study 4, WDFW-O will assess the capacity of salmonid habitat. In Study 5, WDFW-O will conduct presence/absence studies by using electrofishers to determine the distribution of salmonids in various watersheds. Data from these five studies will provide managers valuable information that will be used to assess the survival of migrating juvenile salmonids, the abundance of adults on spawning grounds, the annual success of spawners, and the relative abundance of salmonids in the available habitat. Indirect mortalities of adult and juvenile ESA-listed fish are also authorized. Permit 1203 expires on December 31, 2003.

Notice was published on March 25, 1999 (64 FR 14432), that NWFSC had applied for a scientific research permit. Permit 1212 was issued on May 26, 1999, and authorized the annual take of juvenile SnR sockeye salmon, juvenile naturally produced and artificially propagated SnR spring/summer chinook salmon, juvenile SnR fall chinook salmon, and juvenile naturally produced and artificially propagated UCR steelhead associated with four studies at hydropower dams on the Snake and Columbia Rivers in the Pacific Northwest. NMFS issued an amendment to permit 1212 on March 10, 2000, which authorizes NWFSC annual direct takes of juvenile naturally produced and artificially propagated UCR spring chinook salmon in study 1 as well as an associated indirect mortality of juvenile naturally produced and artificially propagated UCR spring chinook salmon. The amendment to permit 1212 is valid for the duration of the permit, which expires on December 31, 2003.

Dated: March 16, 2000.
Wanda L. Cain,
Chief, Endangered Species Division, Office of Protected Resources, National Marine Fisheries Service.

[FR Doc. 00-7076 Filed 3-21-00; 8:45 am]

BILLING CODE 3510-22-F